NATIONAL FOUNDATION ON THE ARTS AND THE HUMANITIES

National Endowment for the Humanities

Meeting of National Council on the Humanities

AGENCY: National Endowment for the Humanities; National Foundation on the Arts and the Humanities.

ACTION: Notice of meeting.

SUMMARY: Pursuant to the Federal Advisory Committee Act, notice is hereby given that the National Council on the Humanities will meet to advise the Chair of the National Endowment for the Humanities (NEH) with respect to policies, programs and procedures for carrying out her functions; to review applications for financial assistance under the National Foundation on the Arts and Humanities Act of 1965 and make recommendations thereon to the Chair; and to consider gifts offered to NEH and make recommendations thereon to the Chair.

DATES: The meeting will be held on Thursday, July 18, 2024, from 10:30 a.m. until adjourned, and Friday, July 19, 2024, from 9:30 a.m. until adjourned.

ADDRESSES: The meeting will be held at the Constitution Center, 400 7th Street SW, Washington, DC 20506.

FOR FURTHER INFORMATION CONTACT: Elizabeth Voyatzis, Committee Management Officer, 400 7th Street SW, 4th Floor, Washington, DC 20506; (202) 606-8322; evoyatzis@neh.gov.

SUPPLEMENTARY INFORMATION: The National Council on the Humanities is meeting pursuant to the National Foundation on the Arts and Humanities Act of 1965 (20 U.S.C. 951-960, as amended).

The Committee meetings of the National Council on the Humanities will convene on July 18, 2024, from 10:30 a.m. until 12:30 p.m. (closed to the public), to discuss specific grant applications and programs before the Council. The following Committees will meet in the NEH offices at the Constitution Center: Digital Humanities; Education Programs; Federal/State Partnership; Preservation and Access; Public Programs; and Research Programs.

The National Council will then convene in executive session on July 18, 2024, from 1:30 p.m. until adjourned (closed to the public). The executive session will be held in the NEH offices at the Constitution Center.

The plenary session of the National Council on the Humanities will convene on July 19, 2024, at 9:30 a.m. until adjourned in the Conference Center at the Constitution Center. The agenda for the morning session (open to the public) will be as follows:

A. Minutes of Previous Meeting

B. Reports

1. Chair's Remarks

2. Presentations by the U.S. Office of Science and Technology Policy, and the Executive Director of Florida Humanities

The remainder of the plenary session will be for consideration of specific applications before the Council. The agenda for the afternoon session (closed to the public) will be as follows:

A. Reports

1. Actions on Requests for Chair's Grants and Supplemental Funding

2. Actions on Previously Considered Applications

B. Digital Humanities

C. Education Programs

D. Federal/State Partnership

E Preservation and Access

F. Public Programs

G. Research Programs

As identified above, portions of the meeting of the National Council on the Humanities will be closed to the public pursuant to sections 552b(c)(4), 552b(c)(6), and 552b(c)(9)(B)of Title 5 U.S.C., as amended, because it will include review of personal and/or proprietary financial and commercial information given in confidence to the agency by grant applicants, and discussion of certain information, the premature disclosure of which could significantly frustrate implementation of proposed agency action. I have made this determination pursuant to the authority granted me by the Chair's Delegation of Authority to Close Advisory Committee Meetings dated April 15, 2016.

Please note that individuals planning to attend the public session of the meeting are subject to security screening procedures. If you wish to attend the public session, please inform NEH as soon as possible by contacting gencounsel@neh.gov; or (202) 606-8322. Please provide advance notice of any special needs or accommodations, including for a sign language interpreter.

Dated: July 3, 2024.
Jessica Graves,
Paralegal Specialist, National Endowment for the Humanities.

[FR Doc. 2024-15013 Filed 7-8-24; 8:45 am]

BILLING CODE 7536-01-P